DEPARTMENT OF HEALTH AND HUMAN SERVICES

[Document Identifier: OS-0990-0407-60D]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the information collection request (ICR) must be received on or before July 18, 2022.

ADDRESSES: Submit your comments to Sherrette.Funn@hhs.gov or by calling (202) 795-7714.

FOR FURTHER INFORMATION CONTACT: When submitting comments or requesting information, please include the document identifier OS-0990-0407-60D and project title for reference. Submit requests to Sherrette A. Funn, the Reports Clearance Officer, at Sherrette.Funn@hhs.gov or call (202) 795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Think Cultural Health (TCH) website Quality Improvement Effort.

Type of Collection: Reinstatement with Change.

OMB No. 0990-0407.

Abstract: The Office of Minority Health (OMH), Office of the Secretary (OS), Department of Health and Human Services (HHS) is requesting approval by OMB on a reinstatement with change to a previously approved data collection. The Think Cultural Health (TCH) website is an initiative of the HHS OMH's Center for Linguistic and Cultural Competence in Health Care (CLCCHC) and is a repository of resources and tools to promote cultural and linguistic competency in health and health care. The TCH website offers a suite of e-learning programs that afford health and health care professionals the ability to earn continuing education credits through training in cultural and linguistic competency. The revision to this information collection request includes revisions to the online website registration form to streamline and change response options for some elements.

Need and Proposed Use of the Information: The data will be used to ensure that the offerings on the TCH website are relevant, useful, and appropriate to their target audiences. The findings from the data collection will be of interest to HHS OMH in supporting maintenance and revisions of the offerings on the TCH website.

Likely Respondents: Likely respondents are users of the TCH e-learning program(s) and/or e-resource(s). There are no requirements for annual, quarterly or monthly responses. A single respondent completes the registration process to access an e-learning program or e-resource on the website only one time and completes a course-specific evaluation form for each e-learning program course/unit or e-resource per completion. A respondent may be invited to participate in the follow-up survey, a focus group, or a key informant interview and will not be asked to participate in more than one follow-up activity (i.e., survey, focus group, or key informant interview).

Total Estimated Annualized Burden—Hours
Forms | Respondents | Number of respondents | Number of responses per respondents | Average burden per response | Total burden hours
Registration Form | Health and Health Care Professionals | 9,460 | 1 | 3/60 | 473
Course/unit Evaluation Form | Health and Health Care Professionals | 9,460 | 1 | 5/60 | 788
Follow-Up Survey | Health and Health Care Professionals | 4,208 | 1 | 10/60 | 701
Focus Groups | Health and Health Care Professionals | 15 | 1 | 120/60 | 30
Key Informant Interviews | Health and Health Care Professionals | 13 | 1 | 60/60 | 13
Total |  | 23,156 |  |  | 2,005

Sherrette A. Funn,
Paperwork Reduction Act Reports Clearance Officer, Office of the Secretary.

[FR Doc. 2022-10521 Filed 5-16-22; 8:45 am]

BILLING CODE 4150-29-P